DEPARTMENT OF COMMERCE

Patent and Trademark Office

[Docket No. 2004-C-042]

Public Advisory Committees

AGENCY: Patent and Trademark Office.

ACTION: Notice and request for nominations; extension for submission of nominations.

SUMMARY: On August 2, 2004, the United States Patent and Trademark Office issued a “Notice and Request for Nominations,” for its Patent and Trademark Public Advisory Committees. This Notice was published in the Federal Register at 69 FR 46136. The Notice requested nominations for three (3) members to each Public Advisory Committee for terms that begin November 27, 2004. The Notice further advised that nominations must be postmarked or electronically transmitted on or before September 3, 2004. This notice extends the submission deadline to September 17, 2004.

DATES: Nominations must be postmarked or electronically transmitted on or before September 17, 2004.

ADDRESSES: Persons wishing to submit nominations should send the nominee's resumé to Chief of Staff, Office of the Under Secretary of Commerce for Intellectual Property and Director of the USPTO, Post Office Box 1450, Alexandria, Virginia, 22313-1450; by electronic mail to: PPACnominations@uspto.gov for the Patent Public Advisory Committee or TPACnominations@uspto.gov for the Trademark Patent Public Advisory Committee; by facsimile transmission marked to the Chief of Staff's attention at (703) 305-8664; or by mail marked to the Chief of Staff's attention and addressed to the Office of the Under Secretary of Commerce for Intellectual Property and Director of the USPTO, Post Office Box 1450, Alexandria, Virginia, 22313-1450.

FOR FURTHER INFORMATION CONTACT: Chief of Staff by facsimile transmission marked to her attention at (703) 305-8664, or by mail marked to her attention and addressed to the Office of the Under Secretary of Commerce for Intellectual Property and Director of the USPTO, Post Office Box 1450, Alexandria, Virginia, 22313-1450.

SUPPLEMENTARY INFORMATION: Background concerning the nominations may be found at 69 FR 46136.

Procedures for Submitting Nominations

Submit resumés for nomination for the Patent Public Advisory Committee and the Trademark Public Advisory Committee to: Chief of Staff to the Under Secretary of Commerce for Intellectual Property and Director of the United States Patent and Trademark Office, utilizing the addresses provided above.

Dated: August 30, 2004.
Stephen M. Pinkos,
Deputy Under Secretary of Commerce for Intellectual Property and Deputy Director of the United States Patent and Trademark Office.

[FR Doc. 04-20110 Filed 9-2-04; 8:45 am]

BILLING CODE 3510-16-P